DEPARTMENT OF DEFENSE

Office of the Secretary

Proposed Collection; Comment Request

AGENCY: Office of the Assistant Secretary of Defense for Health Affairs, Defense.

ACTION: Notice.

In accordance with section 3506(c)(2)(A) of the Paperwork Reduction Act of 1995, the Office of the Assistant Secretary of Defense for Health Affairs/TRICARE Management Activity announces a proposed new public health information collection and seeks public comment on the provisions thereof. Comments are invited on: (a) Whether the proposed new collection of information is necessary for the proper performance of the functions of the agency, including whether the information shall have practical utility; (b) the accuracy of the agency's estimate of the burden of the information collection; (c) ways to enhance the quality, utility, and clarity of the information to be collected; and, (d) ways to minimize the burden of the information collection on respondents, including through the use of automated collection techniques or other forms of information technology.

DATES: Consideration will be given to all comments received on or before May 1, 2001.

ADDRESSES: Written comments and recommendations on the information collection should be sent to the TRICARE Management Activity (Optimization & Integration), Attention: LTC Scott Goodrich, MC, USA, Deputy Director, Population Health Programs, 5111 Leesburg Pike, Suite 810, Falls Church, VA 22041-3206.

FOR FURTHER INFORMATION CONTACT: To request more information on this proposed information collection, please write to the above address.

Title; Associated Form; and OMB Number: Health Evaluation Assessment Review (HEAR) Survey 2.X.

Needs and Uses: The objective of this work is to design and implement the HEAR 2.X. The HEAR is a tool that will help to define the health status of a population. The survey is a self-reported health assessment tool designed to provide information regarding: (1) An individual's health risk factors and preventive care needs. These are reported to both the individual and their primary care manager; (2) which individuals are likely to use high levels of medical resources; and, (3) risk factors, care levels, and healthcare utilization for use in strategic planning for population health management and resource utilization at the Office of the Assistant Secretary of Defense (Health Affairs), TRICARE Management Activity, Regional, Major Command, Military Treatment Facility, and provider level healthcare. In addition, the HEAR 2.X will provide information in support of Healthy People 2010 and other population health programs. These data will provide needed information to better plan, deliver, and evaluate health care provided in the Military Health System.

Affected Public: Individual households.

Annual Burden Hours: 703,427.71 hours.

Number of Respondents: 2,106,071.

Responses per Respondent: 1 each year.

Average Burden per Response: 20 Minutes (0.334).

Frequency: Once.

SUPPLEMENTARY INFORMATION:

Summary of Information Collection

This request encompasses all activities required to develop and implement the HEAR 2.X survey. The HEAR is a unified approach to assess health and fitness for active duty and other DoD health care beneficiaries. The information is primarily used by health care personnel to plan health care delivery needs and to: (1) Identify patients requiring clinical preventive care (e.g., cholesterol screening, mammography, prostate exam, etc.); (2) target individuals who could benefit from counseling services associated with high risk behaviors (e.g., excessive alcohol consumption, smoking, drinking and driving, etc.); (3) categorize patients into one of three primary care levels according to the complexity and intensity of care required; (4) predict which patients will be high users of health care resources; (5) empower individuals to take responsibility for their own health; and, (6) assess the health status of the population so patients, providers, resource managers, commanders, and health planners at all levels can work towards improving health and managing care.

Dated: February 27, 2001.
Patricia L. Toppings,
Alternate OSD Federal Register Liaison Officer, Department of Defense.

[FR Doc. 01-5382 Filed 3-5-01; 8:45 am]

BILLING CODE 5001-10-M